DEPARTMENT OF COMMERCE

International Trade Administration

[A-489-839]

Common Alloy Aluminum Sheet From the Republic of Türkiye: Amended Final Results of Antidumping Duty Administrative Review; 2022-2023

AGENCY: Enforcement and Compliance, International Trade Administration, Department of Commerce.

SUMMARY: The U.S. Department of Commerce (Commerce) is amending the final results of the administrative review of the antidumping duty (AD) order on common alloy aluminum sheet (CAAS) from the Republic of Türkiye (Türkiye) to correct ministerial errors. Based on the amended final results, we find that the companies under review sold CAAS in the United States at less than normal value during the period of review (POR), April 1, 2022, through March 31, 2023.

DATES: Applicable January 30, 2025.

FOR FURTHER INFORMATION CONTACT: Mark Hoadley, AD/CVD Operations, Office VII, Enforcement and Compliance, International Trade Administration, U.S. Department of Commerce, 1401 Constitution Avenue NW, Washington, DC 20230; telephone: (202) 482-3148.

SUPPLEMENTARY INFORMATION:

Background

On November 14, 2024, Commerce published in the Federal Register the final results of the 2022-2023 administrative review of the AD order on CAAS from Türkiye.¹ On December 4, 2024, Commerce received allegations of ministerial errors from Assan Aluminyum Sanayi ve Ticaret A.S., Kibar Americas, Inc., and Kibar Dis Ticaret A.S. (collectively, Assan) and from Teknik Aluminyum Sanayi A.S. (Teknik).² We received no rebuttal comments. Commerce is amending the Final Results to correct the ministerial errors.

¹ See Common Alloy Aluminum Sheet from the Republic of Türkiye: Final Results of Antidumping Duty Administrative Review; 2022-2023, 89 FR 89965 (November 14, 2024) (Final Results), and accompanying Issues and Decision Memorandum (IDM).

² See Assan's Letter, “Assan Group's Ministerial Errors Allegations in the Antidumping Duty Final Results,” dated December 4, 2024; and Teknik's Letter, “Teknik's Ministerial Error Comments,” dated December 4, 2024.

Legal Framework

Section 751(h) of the Tariff Act of 1930, as amended (the Act), defines a “ministerial error” as including “errors in addition, subtraction, or other arithmetic function, clerical errors resulting from inaccurate copying, duplication, or the like, and any other unintentional error which the administering authority considers ministerial.” ³ With respect to final results of administrative reviews, 19 CFR 351.224(e) provides that Commerce “will analyze any comments received and, if appropriate, correct any . . . ministerial error by amending the final results of review . . .”

³ See 19 CFR 351.224(f).

Ministerial Error

Commerce reviewed the record, and we agree that the errors alleged by Assan and Teknik constitute ministerial errors within the meaning of section 751(h) of the Act and 19 CFR 351.224(f).⁴ Specifically, we find that we made inadvertent errors in Assan's calculations related to the use of the most up-to-date exchange rates and the calculation of insurance expenses, and inadvertent errors in Teknik's calculations related to freight revenue. Pursuant to 19 CFR 351.224(e), Commerce is amending the Final Results to reflect the correction of the ministerial errors, as described in the Ministerial Error Memorandum. Based on the corrections, Assan's final dumping margin changed from 2.38 percent to 1.84 percent, and Teknik's final dumping margin changed from 2.72 percent to 2.04 percent. As a result, we are also revising the rate assigned to the non-individually examined companies, utilizing the same methodology in the Final Results, from 2.55 percent to 1.94 percent. The amended estimated weighted-average dumping margins are listed in the “Amended Final Results of Review,” section below.

⁴ See Memorandum, “Analysis of Ministerial Error Allegation,” dated concurrently with this notice (Ministerial Error Memorandum).

For a complete discussion of the ministerial error allegation, as well as Commerce's analysis, see the Ministerial Error Memorandum. The Ministerial Error Memorandum is on file electronically via Enforcement and Compliance's Antidumping and Countervailing Duty Centralized Electronic Service System (ACCESS). ACCESS is available to registered users at https://access.trade.gov.

Amended Final Results of Review

As a result of correcting the ministerial errors described above, Commerce determines that the following estimated weighted-average dumping margins exist for the period April 1, 2022, through March 31, 2023:

Exporter | Weighted- average dumping margin (percent)
Assan Aluminyum Sanayi ve Ticaret A.S | 1.84
Teknik Aluminyum Sanayi A.S | 2.04
Non-Selected Companies ⁵ | 1.94

Disclosure

⁵ The non-examined companies subject to this review are ASAS Aluminyum Sanayi ve Ticaret A.S., Panda Aluminyum A.S., PMS Metal Profil Aluminyum Sanayi ve Ticaret A.S., and TAC Metal Ticaret Anonim Sirketi.

Commerce intends to disclose the calculations performed in connection with these amended final results of review to interested parties within five days after public announcement of the amended final results or, if there is no public announcement, within five days of the date of publication of the notice of amended final results in the Federal Register, in accordance with 19 CFR 351.224(b).

Assessment Rates

Pursuant to section 751(a)(2)(A) of the Act and 19 CFR 351.212(b)(1), Commerce will determine, and U.S. Customs and Border Protection (CBP) shall assess, antidumping duties on all appropriate entries of subject merchandise in accordance with the final results of this review. Commerce intends to issue assessment instructions to CBP no earlier than 35 days after the date of publication of the final results of this administrative review in the Federal Register. If a timely summons is filed at the U.S. Court of International Trade, the assessment instructions will direct CBP not to liquidate relevant entries until the time for parties to file a request for a statutory injunction has expired (i.e., within 90 days of publication).

Pursuant to 19 CFR 351.212(b)(1), because Assan's and Teknik's weighted-average dumping margins are not zero or de minimis (i.e., less than 0.5 percent), we calculated importer-specific ad valorem assessment rates based on the ratio of the total amount of dumping calculated for the examined sales to the total entered value of the sales. Where an importer-specific assessment rate is zero or de minimis, we will instruct CBP to liquidate the appropriate entries without regard to antidumping duties.

Consistent with Commerce's clarification of its assessment practice, for entries of subject merchandise during the POR produced by any of the above-referenced respondents for which they did not know the merchandise was destined for the United States, we will instruct CBP to liquidate such entries at the all-others rate established in the less-than-fair-value (LTFV) investigation of 4.85 percent ad valorem if there is no rate for the intermediate company(ies) involved in the transaction.

For the non-examined companies subject to review, we will instruct CBP to liquidate all applicable entries of subject merchandise during the POR at the rate listed in the table above.

Cash Deposit Requirements

The following cash deposit requirements will be effective for all shipments of subject merchandise entered, or withdrawn from warehouse, for consumption on or after the date of publication of the final results of this administrative review, as provided for by section 751(a)(2)(C) of the Act: (1) the company-specific cash deposit rate for Assan and Teknik will be equal to the weighted-average dumping margin established in the final results of this review for each respondent (except, if that rate is de minimis, then the cash deposit rate will be zero); (2) for producers or exporters not covered in this review but covered in a prior segment of the proceeding, the cash deposit rate will continue to be the company-specific rate published for the most recently-completed segment of this proceeding in which they were reviewed; (3) if the exporter is not a firm covered in this review or a prior segment of the proceeding but the producer is, then the cash deposit rate will be the rate established for the most recently completed segment of this proceeding for the producer of the merchandise; and (4) the cash deposit rate for all other producers or exporters will continue to be 4.85 percent, the all-others rate established in the LTFV investigation. These cash deposit requirements, when imposed, shall remain in effect until further notice.

Notification to Importers

This notice serves as a final reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of countervailing duties.

Administrative Protective Order (APO)

This notice serves as the final reminder to parties subject to an APO of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

We are issuing and publishing these amended final results of review in accordance with sections 751(h) and 777(i) of the Act, and 19 CFR 351.224(e).

Dated: January 23, 2025.
Abdelali Elouaradia,
Acting Assistant Secretary for Enforcement and Compliance.

[FR Doc. 2025-01944 Filed 1-29-25; 8:45 am]

BILLING CODE 3510-DS-P